ENVIRONMENTAL PROTECTION AGENCY

[FRL-7246-4]

Agency Information Collection Activities: Proposed Collection; Comment Request; Information Collection Request for National Pollutant Discharge Elimination System (NPDES) Storm Water Program Phase II

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): NPDES Storm Water Program Phase II; EPA ICR No. 1820.03; OMB Control Number 2040-0211, currently expiring on October 31, 2002. Before submitting the ICR to OMB for review and approval, EPA is soliciting comments on specific aspects of the proposed information collection as described below.

DATES: Comments must be submitted on or before September 16, 2002.

ADDRESSES: Please send comments on the proposed ICR to Jack Faulk, USEPA, Office of Wastewater Management, Water Permits Division, 1200 Pennsylvania Avenue, NW., EPA East, Room 7329E, Mail Code 4203M, Washington, DC 20460.

FOR FURTHER INFORMATION CONTACT: Please direct questions or a request for a copy of the ICR to: Jack Faulk, Industrial Branch, Water Permits Division, Office of Wastewater Management; tel.: (202) 564-0768, fax: (202) 564-6431; or e-mail: faulk.jack@epa.gov.

SUPPLEMENTARY INFORMATION: Affected entities: Entities potentially affected by this action are those which are addressed by the NPDES Storm Water Program Phase II rule, promulgated on December 8, 1999. This includes regulated small municipal separate storm sewer systems (MS4s), small construction sites (1-5 acres in size), and industrial activities eligible for a “No Exposure Waiver.” For purposes of the Phase II Rule, regulated small MS4s are defined as those entities that are not already regulated as a medium or large MS4 and that are located in “urbanized areas” (UAs) as defined by the Bureau of the Census, and those small MS4s located outside of a UA that are designated by NPDES permitting authorities. This ICR also includes information collection requirements applicable to states that are authorized to administer the NPDES Permitting Program in their respective states.

Title: Information Collection Request for NPDES Storm Water Program Phase II; (OMB Control No. 2040-0211; EPA ICR No. 1820.03) expiring 10/31/02.

Abstract: This Information Collection Request (ICR) addresses Phase II of the NPDES storm water program. Under the Phase II rule, EPA regulates storm water discharges from construction sites with activities disturbing equal to or greater than one acre and less than five acres of land, and small MS4s located in Bureau of the Census-designated “urbanized areas.” Additional construction sites and small MS4s may be designated by the NPDES permitting authority. NPDES permits provide the mechanism for establishing appropriate controls on these Phase II sources. The Phase II rule also includes a provision that allows industrial facilities regulated under Phase I of the NPDES storm water program to obtain an exclusion from NPDES permitting requirements if they can certify to a condition of “no exposure” on their site.

Permits were not required for small construction sites and regulated small MS4s during the first three years of the program. The data collection effort during this first three-year period was limited to the submittal and review of no exposure certifications and some preliminary Agency work in developing specific program elements. A significant increase in burden for this ICR is the product of that fact.

After general permits for small MS4s and small construction sites are issued in December of 2002, NPDES permitting authorities, including the Water Permits Division of the EPA Office of Wastewater Management, intend to use the data contained in storm water permit applications, construction waiver certifications, storm water pollution prevention plans (SWPPPs), no exposure certifications, and reports to set appropriate permit conditions, track discharges covered by storm water permits, and assess permit compliance. Other organizations, including EPA's Office of Enforcement and Compliance (OECA) and environmental groups, will most likely use the same collected information to assess the regulated community's level of compliance and to measure the overall effectiveness of the NPDES storm water program.

It is expected that respondents will submit information in hard copy form. The information from them will be entered into a computer database and the original document will be filed. The information will be submitted by the respondents directly to each NPDES-authorized State or Territory, or to EPA in areas where EPA is the NPDES permitting authority. Plans are underway to allow electronic submission of much of the required information but these options are not included in the ICR. At the time those options become available, EPA will update this information collection to reflect a revised burden estimate.

An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates that 327,119 NPDES entities (consisting of 5,102 small MS4s, 119,112 small construction permittees, 21,020 small construction sites eligible for and receiving a waiver, and 181,885 industrial operators eligible for and receiving the no exposure waiver) will perform activities covered by this ICR. These entities are expected to provide 183,291 responses to State and Federal permit authorities annually. Additionally, 45 states/territories will perform information collection activities. Nationally, NPDES permittees will spend 3,661,312 hours per year on information collection activities as a result of the Storm Water Program Phase II rule (289,794 hours for regulated small MS4s, 21,020 hours for waived small construction sites, 3,323,215 hours for permitted small construction sites, and 27,283 hours for industrial no exposure facilities). The 45 states/territories are expected to spend 211,885 hours per year on information collection activities as a result of the Storm Water Program Phase II rule (11,453 hours for regulated small MS4s, 17,847 hours for waived small construction sites, 151,699 hours for permitted small construction sites, and 30,886 hours for industrial no exposure facilities). Capital and start-up costs associated with the Phase II rule are expected to be negligible. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 27, 2002.
Jane S. Moore,
Acting Director, Office of Wastewater Management.

[FR Doc. 02-17868 Filed 7-15-02; 8:45 am]

BILLING CODE 6560-50-P